DELAWARE RIVER BASIN COMMISSION

Notice of Commission Meeting and Public Hearing

Notice is hereby given that the Delaware River Basin Commission will hold a public hearing on Wednesday, March 12, 2008. The hearing will be part of the Commission's regular business meeting. The business meeting is open to the public and will be held at the Commission's office building, located at 25 State Police Drive in West Trenton, New Jersey. No morning conference session is scheduled for this meeting.

Please note that commission action on the Proposed Amendments to the Water Quality Regulations, Water Code and Comprehensive Plan to Classify the Lower Delaware River as Special Protection Waters (SPW) will not take place at this meeting. The earliest commission meeting date when action could be taken is May 14, 2008.

The subjects of the public hearing to be held during the 1:30 p.m. business meeting include the dockets listed below:

1. Freeland Borough Municipal Authority D-94-63 CP-2. An application for the renewal of a ground water withdrawal project to continue withdrawal of 17.2 million gallons per thirty days (mg/30 days) to supply the applicant's public water supply distribution system from existing Wells Nos. 9, 12 and 14 in the Buck Mountain Mauch Chunk Formation. The project is located in the Pond Creek Watershed in Freeland Borough, Luzerne County, Pennsylvania, within the drainage area to the section of the non-tidal Delaware River known as the Lower Delaware, which is designated as Special Protection Waters.

2. Township of Roxbury D-96-17 CP-2. An application for the renewal of a ground water withdrawal project to supply up to 19.8 mg/30 days from existing Wells Nos. 2, 4, 9 and 12. The project is located in the Stratified Drifts Aquifer in the Musconetcong River Watershed in Roxbury Township, Morris County, New Jersey, within the drainage area to the section of the non-tidal Delaware River known as the Lower Delaware, which is designated as Special Protection Waters.

3. Smithfield Beef Group (MOPAC) D-96-21-3. An application for approval of an upgrade of the existing 0.75 million gallon per day (mgd) industrial wastewater treatment plant (IWTP) in accordance with a Consent Order and Agreement issued by PADEP. The upgrade includes a new anaerobic lagoon, a new tertiary filtration system and a new ultraviolet light (UV) disinfection system. The IWTP will continue to discharge to the Skippack Creek. The IWTP is located in Franconia Township, Montgomery County, Pennsylvania.

4. Nestlé Waters North America, Inc. D-98-27-3. An application for the renewal of a spring water withdrawal project to continue withdrawal of 9 mg/30 days to supply the applicant's bottled water operations from existing Hoffman Springs Nos. 1, 2 and 3 to supply up to 1.95 mg/30 days from the new Mattos Catchment No. 1 to supplement flow in Ontelaunee Creek. The project is located in the Ontelaunee Creek Watershed in Lynn Township, Lehigh County, Pennsylvania.

5. Fifer Orchards, Inc. D-2002-20-2. A combined ground and surface water withdrawal project to continue to supply a maximum of 543 mg/30 days of water to the applicant's irrigation of approximately 2,285 acres of fruit and vegetables through two new wells, nine existing wells and nine existing intakes. The wells are located in the Columbia Formation in the St. Jones River Watershed in the City of Wyoming, Kent County, Delaware. Surface water will be withdrawn from a series of on-site ponds in the St. Jones River Watershed.

6. Ambler Borough D-75-16 CP-2. An application for approval of a rerate of the Ambler Borough wastewater treatment plant (WWTP) to 8.0 mgd as a maximum monthly value. The WWTP's existing 6.5 mgd annual average flow will remain unchanged. The WWTP will continue to discharge to the Wissahickon Creek, a tributary to the Schuylkill River. The facility is located in Ambler Borough, Montgomery County, Pennsylvania.

7. The Premcor Refining Group, Inc. D-93-4-6. An application to replace the withdrawal of water from Wells Nos. P-3A and P-4A in the applicant's water supply system that have become unreliable sources of supply and to increase the applicant's surface water withdrawal from the Delaware River and Red Lion Creek. Premcor requests that its combined withdrawal from replacement Wells Nos. P-3B and P-4B and seven existing wells remain limited to 180 mg/30 days; that its withdrawal from the Delaware River intake remain at 13,560 mg/30 days; that the docket authorize withdrawals of 38.9 mg/30 days from the Red Lion Creek intake and up to 56.2 mg/30 days from the Dragon Run intake, and that Premcor's combined withdrawal from all sources be limited to 13,655.1 mg/30 days. The proposed allocation represents no increase in groundwater withdrawals, no increase from the Delaware River intake and the inclusion in a DRBC docket of previously un-docketed pre-Compact DNREC allocations from Dragon Run and Red Lion Creek. The project is located in the Potomac Formation in the C&D Canal East, Dragon Run Creek, Red Lion Creek and Delaware River watersheds in Delaware City, New Castle County, Delaware.

8. Aqua Pennsylvania, Inc. D-97-3-2. An application to use Wells Nos. 1 and 2 at the former Simpson Paper Company to serve the applicant's potable water supply system. The applicant seeks a maximum withdrawal of 42 mg/30 days from Wells Nos. 1 and 2, representing no change from the maximum combined withdrawal from the wells. The project is located in the Conestoga Formation in the Schuylkill River Watershed in Whitemarsh Township, Montgomery County, Pennsylvania and is located in the Southeastern Pennsylvania Ground Water Protected Area.

9. Town of Felton D-99-26 CP-2. An application for the renewal of a ground water withdrawal project and to decrease the maximum withdrawal from 5.7 mg/30 days to 5.328 mg/30 days to supply the applicant's public water supply distribution from existing Wells Nos. 2, 3 and 4 in the Frederica and Piney Point formations. The project is located in the Fan Branch Watershed in the Town of Felton, Kent County, Delaware.

10. Upper Hanover Authority D-2001-61 CP-2. An application for approval of a WWTP expansion project that will increase treatment capacity from 0.15 mgd to 0.40 mgd, while maintaining existing effluent quality via the addition of sequencing batch reactor and tertiary filtration processes. The existing WWTP has reached its design capacity and the expansion project is needed to serve new development in Upper Hanover Township, Montgomery County, Pennsylvania. Following ultraviolet light disinfection, the WWTP effluent will be discharged to Macoby Creek, a tributary of Perkiomen Creek, within the Schuylkill River Watershed. The project is located in the Southeastern Pennsylvania Ground Water Protected Area.

11. Mountain Hill Cottages D-2005-2-1. An application to upgrade the septic system that serves the Mountain Hill Cottages development located off Cold Spring Road approximately 2,000 feet north of its intersection with Cantrell Road in the Town of Thompson, Sullivan County, New York. An additional septic system will be constructed to treat 5,250 gallons of flow. The effluent from the proposed septic system will be routed to a 14,000 gallon per day sand filter, which recharges the groundwater. No expansion of the sand filter is required, but a new chlorine contact tank will be provided. The project is in the Bush Kill Watershed, upstream from its confluence with the Neversink River in the drainage area of DRBC Special Protection Waters.

12. Valleybrook Golf Club D-2006-21-1. An application for approval of a surface water withdrawal project to supply up to 7 mg/30 days of water to the applicant's golf course irrigation system from three surface water intakes from a series of one lake and retention ponds on Pines Run. The project is located in the Pines Run Watershed in Gloucester Township, Camden County, New Jersey.

13. Pocono Manor Investors Pt. 1, L.P. D-2006-43-1. A revised application for approval of a ground water withdrawal project to supply up to 15.984 mg/30 days of water to the applicant's Pocono Manor site from new Wells Nos. 1, 2 and 3 and to limit the existing withdrawal from all wells to 15.984 mg/30 days. The wells will serve Phases I, II-A, III & II-B of the docket holder's revised residential and commercial development plans. The project is located in the Catskill Formation in the Brodhead/Swiftwater Creek Watershed in Pocono Township, Monroe County, Pennsylvania. The location is also within the drainage area to the section of the non-tidal Delaware River known as the Middle Delaware, which is classified as Special Protection Waters.

14. Wayne Economic Development Corporation D-2007-18-1. An application for the approval of the new Sterling Business Park WWTP. The new 35,000 gpd WWTP will service the 252-acre Sterling Business Park of the Wayne County Economic Development Corporation (WEDCO). The Sterling Business Park will consist of up to 23 commercial building sites, ranging in size from 3 to 30 acres. The project includes a 7,000 gpd non-potable water reuse system for restrooms and landscape irrigation. The applicant's WWTP will discharge to the West Branch Wallenpaupack Creek, within the section of the non-tidal Delaware River known as the Upper Delaware, which is classified as Special Protection Waters. The facility is located on State Route 0191, approximately one mile north of the S.R.0191/Newfoundland exit off I-84 in Sterling Township, Wayne County, Pennsylvania.

15. Upper Makefield Township D-2007-24 CP-1. An application for approval of a ground water withdrawal project to supply up to 8.43 mg/30 days of water to the applicant's public water supply distribution system from new Wells HH1, HH2, HH4, GTW1 and GTW2. The project is located in the Brunswick and Lockatong formations in the Houghs Creek and Delaware River watersheds in Upper Makefield Township, Bucks County, Pennsylvania. The site is located within the drainage area to the section of the non-tidal Delaware River known as the Lower Delaware, which is designated as Special Protection Waters.

16. Upper Makefield Township D-2007-25 CP-1. An application for the approval of the new 20,000 gpd Gray Tract WWTP. The WWTP will serve approximately 96 age-restricted dwellings and 14 existing homes and is proposed to discharge to an unnamed tributary of Hough's Creek, which is tributary to the Delaware River. The facility is located in Upper Makefield Township, Bucks County, Pennsylvania, within the drainage area to the section of the non-tidal Delaware River known as the Lower Delaware, which is designated as Special Protection Waters.

17. Congoleum Corporation D-2007-35-1. An application to discharge an average of 122,000 gallons per day of non-contact cooling and storm water from the applicant's tile floor manufacturing facility. The discharge is to a Hamilton Township municipal storm sewer, which discharges to Hamilton Ditch and Miry Run, tributaries to the Delaware River. The facility is located in Hamilton Township, Mercer County, New Jersey.

18. U.S. Silica—Port Elizabeth Mine D-2007-37-1. An application for approval of a surface water withdrawal project to supply up to 288 mg/30 days of water from surface water Intake No. 1 for sand and gravel processing and up to 0.778 mg/30 days from one well used for sanitary supply at the facility. The project is located in the Maurice River Watershed in Mauricetown Township, Cumberland County, New Jersey.

19. Franconia Sewer Authority D-2007-41 CP-1. An application for approval of the construction of a new 0.15 mgd Franconia Sewer Authority WWTP, pump station and appurtenances. The new WWTP will serve the new Souderton Area High School and sanitary waste from Smithfield Beef Group (formerly Moyer Packing Company). The WWTP will discharge to the Skippack Creek, a tributary to the Perkiomen Creek, which is a tributary to the Schuylkill River. The facility will be located in Franconia Township, Montgomery County, Pennsylvania.

20. Pocono Manor Investors, L.P. D-2007-44-1. An application for approval of a surface water withdrawal project to supply up to 0.72 mg/30 days of water to the applicant's irrigation system from Intake No. 1 and to limit the existing withdrawal from all intakes to 0.72 mg/30 days. The project is located on Indian Run, a tributary to Pocono Creek in Pocono Township, Monroe County, Pennsylvania, within the drainage area to the section of the non-tidal Delaware River known as the Upper Delaware, which is designated as Special Protection Waters.

21. Congoleum Corporation, D-2005-25-2. Approval is requested for corrections to the effluent table in section A.4.d. of Docket D-2005-25-1 issued on March 1, 2006 for an industrial discharge of non-contact cooling water and stormwater from Congoleum Plant No. 2. The effluent table incorrectly listed limits for four parameters for which DRBC lacked applicable requirements: Bromodichlorormethane, Chloroform, Chlorine Produced Oxidants and Chronic Toxicity. The Executive Director subsequently issued corrected Docket D-2005-25-2, in which the state limits are listed for these parameters, pending ratification by the Commission. The discharge is made to the Hamilton Township storm sewer, which discharges to Pond Run, a tributary of the Assunpink Creek. The facility is located in Hamilton Township, Mercer County, New Jersey.

22. Borough of South Coatesville, D-74-39 CP-2. Approval is requested for corrections to the effluent table in section A.4.d. of Docket D-74-39-CP-2 issued on July 18, 2007 for the rerate of the South Coatesville Wastewater Treatment Plant. The effluent table incorrectly listed a Commission limit for Dissolved Oxygen that is inapplicable to the South Coatesville Borough facility. The Executive Director subsequently issued corrected Docket D-74-39 CP-2, in which the applicable state limit is listed for this parameter, pending ratification by the Commission. The facility is located on the border between South Coatesville Borough and Modena Borough in Chester County, Pennsylvania. The discharge is to the West Brandywine Creek.

In addition, the Commission's 1:30 p.m. business meeting will include adoption of the Minutes of the Commission's December 12, 2007 business meeting; announcements of upcoming advisory committee meetings and other events; a report by the Executive Director; a report by the Commission's General Counsel; consideration of a resolution for the minutes authorizing the Executive Director to engage an engineering firm to oversee lighting and HVAC improvements to the Commission's West Trenton office building; a resolution to adopt the Commission's annual budget for the Fiscal Year ending 2009 (July 1, 2008 through June 30, 2009); and an opportunity for public dialogue. The hearing on the proposed budget took place on December 12, 2007.

Draft dockets scheduled for public hearing on March 12, 2008 are posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: February 28, 2008.
Pamela M. Bush,
Commission Secretary.

[FR Doc. E8-4217 Filed 3-4-08; 8:45 am]

BILLING CODE 6360-01-P